DEPARTMENT OF ENERGY

Federal Energy Regulatory Commission

[Docket Nos. CP18-46-000, CP18-46-001]

Adelphia Gateway, LLC; Notice of Reopening of Comment Period

On January 4, 2019, the Commission issued a notice setting February 3, 2019, as the end of the formal period to file comments on the Adelphia Gateway Project environmental assessment. Due to the funding lapse at certain federal agencies between December 22, 2018 and January 25, 2019, the Commission is reopening the comment period until March 1, 2019.

Dated: February 8, 2019.
Kimberly D. Bose,
Secretary.

[FR Doc. 2019-02338 Filed 2-13-19; 8:45 am]

BILLING CODE 6717-01-P